DEPARTMENT OF COMMERCE

Foreign-Trade Zones Board

[Order No. 1616]

Reorganization/Expansion of Foreign-Trade Zone 202; Los Angeles, CA, Area

Pursuant to its authority under the Foreign-Trade Zones Act of June 18, 1934, as amended (19 U.S.C. 81a-81u), the Foreign-Trade Zones Board (the Board) adopts the following Order:

Whereas, the Board of Harbor Commissioners of the City of Los Angeles, grantee of Foreign-Trade Zone 202, submitted an application to the Board for authority to reorganize and expand its zone by removing acreage from four existing sites (Sites 4, 16, 19 and 20); deleting existing Site 5 in its entirety; combining existing Sites 8 and 10 into one site (Site 10); expanding three existing sites (Sites 9, 11 and 19) to include additional acreage; and, by adding a new site to the zone project, adjacent to the Los Angeles Customs and Border Protection port of entry (FTZ Docket 52-2007, filed 12/17/07);

Whereas, notice inviting public comment was given in the Federal Register (73 FR 1318, 1/8/08) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 202 is approved, subject to the FTZ Act and the Board's regulations, including Section 400.28, and to the Board's standard 2,000-acre activation limit for the overall general-purpose zone project, and further subject to a sunset provision that would terminate authority on April 30, 2014, for the new site if no activity has occurred under FTZ procedures before that date.

Signed at Washington, DC, this 24th day of April 2009.
Ronald K. Lorentzen,
Acting Assistant Secretary of Commerce for Import Administration, Alternate Chairman, Foreign-Trade Zones Board.
Attest:
Andrew McGilvray,
Executive Secretary.

[FR Doc. E9-10808 Filed 5-7-09; 8:45 am]

BILLING CODE 3510-DS-P